FEDERAL RESERVE SYSTEM

Change in Bank Control Notices; Acquisitions of Shares of a Bank or Bank Holding Company

The notificants listed below have applied under the Change in Bank Control Act (Act) (12 U.S.C. 1817(j)) and 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue, NW, Washington DC 20551-0001, not later than May 7, 2024.

A. Federal Reserve Bank of Dallas (Karen Smith, Director, Mergers & Acquisitions) 2200 North Pearl Street, Dallas, Texas 75201-2272. Comments can also be sent electronically to Comments.applications@dal.frb.org:

1. Sandra Davis Maddox, Dallas, Texas; to retain voting shares of First West Texas Bankshares, Inc., and thereby indirectly retain voting shares of West Texas National Bank, both of Midland, Texas.

In addition, David Lynn Davis, as executor of the Estate of Michael Keith Davis and as trustee of the Michael K. Davis Family Trust and the Michael K. Davis Marital Trust, Nicholas Andrew Davis, as trustee of the Nicholas Andrew Davis Exempt GST Trust and the Nicholas Andrew Davis Non-Exempt GST Trust, Eric Ryan Davis, individually and as trustee of the Eric R. Davis Exempt GST Trust and the Eric R. Davis Non-Exempt GST Trust, and Richard Dell Hatchett, all of Midland, Texas; Jeffrey Lyle Maddox, as trustee of the Jeffrey L. Maddox Exempt GST Trust and the Jeffrey L. Maddox Non-Exempt GST Trust, and Amber Lynette Klimczak, as trustee of the Amber L. Maddox Exempt GST Trust and the Amber L. Maddox Non-Exempt GST Trust, all of Dallas, Texas; Brian Lee Maddox, as executor of the Estate of Lori Davis Winter, and as trustee of the Brian L. Maddox Exempt GST Trust and the Brian L. Maddox Non-Exempt GST Trust, Alexander Nolan Davis, and Christopher Lane Maddox, as trustee of the Christopher L. Maddox Exempt GST Trust and the Christopher L. Maddox Non-Exempt GST Trust, all of Houston, Texas; Amy Louise Patyk, as trustee of the Amy L. Maddox Exempt GST Trust and the Amy L. Maddox Non-Exempt GST Trust, all of Fort Worth, Texas; Dawn Marie Belizaire, as trustee of the Dawn M. Davis Exempt GST Trust and the Dawn M. Davis Non-Exempt GST Trust, all of Jamaica Plain, Massachusetts; Matthew Lynn Davis, as trustee of the Matthew L. Davis Exempt GST Trust and the Matthew L. Davis Non-Exempt GST Trust, all of Coppell, Texas; and Randall Keith Moore of Slaton, Texas; to join the Davis/Maddox family group, a group acting in concert, to acquire voting shares of First West Texas Bankshares, Inc., and thereby indirectly acquire voting shares of West Texas National Bank, both of Midland, Texas. David Lynn Davis and Nicholas Andrew Davis are members of the Davis/Maddox family group and were both previously permitted by the Federal Reserve System to acquire control of voting shares of First West Texas Bankshares, Inc.

Board of Governors of the Federal Reserve System.
Michele Taylor Fennell,
Deputy Associate Secretary of the Board.

[FR Doc. 2024-08560 Filed 4-19-24; 8:45 am]

BILLING CODE P